DEPARTMENT OF TRANSPORTATION

Pipeline and Hazardous Materials Safety Administration

Hazardous Materials: Notice of Actions on Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has granted or denied the applications described herein.

DATES: Comments must be received on or before April 25, 2025.

ADDRESSES: Record Center, Pipeline and Hazardous Materials Safety Administration, U.S. Department of Transportation, Washington, DC 20590. Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Copies of the applications are available for inspection in the Records Center, East Building, PHH-13, 1200 New Jersey Avenue Southeast, Washington, DC.

This notice of receipt of applications for special permit is published in accordance with part 107 of the Federal hazardous materials transportation law (49 U.S.C. 5117(b); 49 CFR 1.53(b)).

Issued in Washington, DC, on March 6, 2025.
Donald P. Burger,
Chief, General Approvals and Permits Branch.

Application No. | Applicant | Regulation(s) affected | Nature of the special permits thereof
Special Permits Data—Granted
20418-M | Hanwha Cimarron LLC | 173.302(a), 173.304 | To modify the special permit to authorize an extended service life program.
21136-M | Hanwha Cimarron LLC | 173.302(a)(1) | To modify the special permit to authorize an extended service life program.
21491-M | Hanwha Cimarron LLC | 173.302(a) | To modify the special permit to authorize an extended service life program.
21546-M | Space Exploration Technologies Corp | 172.400, 172.300, 172.101(k)(6), 173.1, 176.30, 176.200(d), 176.600, 176.190, 176.164(e), 177.834(h) | To modify the special permit to update the designated splashdown locations to the Pacific Ocean, the designated unloading port to Long Beach, CA and road transport by a SpaceX operated motor vehicle from the port to Area 59, Cape Canaveral Space Force Station, FL or Hawthorne, CA.
21663-M | Orbion Space Technology, Inc | 172.203(a), 172.301(c), 173.301(f)(1), 173.302(a)(1) | To modify the special permit to authorize an additional packaging, additional modes, and an additional hazardous material.
21694-N | Invinity Energy Systems (US) Corporation | 173.159 | To authorize the transportation in commerce of wet batteries in alternative packaging.
21734-N | AVS Gefahrgut & Verpackungen GmbH | 172.101(j) | To authorize the transportation in commerce of lithium batteries exceeding 35 kg by cargo-only aircraft.
21833-N | Cyl-Tec, Inc | 172.203(a), 172.301(c), 180.211(c)(2)(i) | To authorize the repair of certain DOT 4L cylinders without requiring pressure testing.
21866-N | Electronic Recyclers International Inc | 172.700(a), 172.400, 172.200, 172.300, 172.102(c)(2), 173.159a(c)(2), 173.185(c)(1)(iii), 173.185(c)(1)(iv), 173.185(c)(1)(v), 173.185(c)(3), 173.185(f) | To authorize the transportation in commerce of DDR and end of life batteries and to allow various chemistries in the same alternative packaging.
21873-N | Tesla, Inc | 173.185(b) | To authorize the transportation in commerce by motor vehicle and rail freight of lithium-ion cells packaged within a rigid plastic 50H Large Packaging.
21936-N | Electronic Fluorocarbons, LLC | 171.23(a)(3), 171.23(b)(10)(ii), 172.101(i) | To authorize the transportation in commerce of non-DOT specification pressure drums containing anhydrous hydrogen chloride.
Special Permits Data—Denied
Special Permits Data—Withdrawn
21920-N | L3Harris Technologies, Inc | 173.302 | To authorize the transportation in commerce of certain gases in non-DOT specification pressure vessels, which will be used in space vehicles.

[FR Doc. 2025-05050 Filed 3-25-25; 8:45 am]

BILLING CODE P